DEPARTMENT OF THE INTERIOR

Equestrian Stables at Meadowood Special Recreation Management Area, VA; Information Sharing Meeting

AGENCY: Bureau of Land Management, Interior.

ACTION: Notice of public meeting.

SUMMARY: The Bureau of Land Management Eastern States has scheduled a public meeting to share information about the condition of the equestrian stables at Meadowood Special Recreation Management Area (SRMA), located in Lorton, VA, and collect comments, suggestions and ideas from the public pertaining to the future of the structure. The meeting agenda includes an overview of current options for making repairs to a 34-year-old barn currently used as a boarding facility for private horses, while accommodating therapeutic riding and riding lessons that are available to the public.

DATES: The meeting is scheduled as follows: June 28, 2011; 7 p.m., local time.

ADDRESSES: Laurel Hill Golf Course Clubhouse, 8701 Laurel Crest Dr., Lorton, VA 22079.

FOR FURTHER INFORMATION CONTACT: E. Lynn Burkett, BLM-ES Lower Potomac Field Station Manager; phone: 703-339-3461. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The meeting will begin with an overview of the status of equestrian activities at the Meadowood SRMA. Comments, suggestions and ideas will be accepted from the public via the U.S. Postal Service, or by e-mail to: ES_Meadowood@es.blm.gov. The public is also invited to write their comments at the meeting.

Marie Stewart,
Acting State Director.

[FR Doc. 2011-14524 Filed 6-10-11; 8:45 am]

BILLING CODE 4310-GJ-P